DEPARTMENT OF ENERGY

Federal Energy Regulatory Commission

[Docket Nos. CP07-8-000; CP07-8-001; CP07-8-002]

Guardian Pipeline, L.L.C; Notice of Availability of the Final Environmental Impact Statement for the Guardian Expansion and Extension Project

October 26, 2007.

The staff of the Federal Energy Regulatory Commission (FERC or Commission) has prepared this Final Environmental Impact Statement (EIS) for the natural gas pipeline facilities proposed by Guardian Pipeline, L.L.C. (Guardian) under the above-referenced docket. The Guardian Expansion and Extension Project (G-II Project) would be located in various counties in eastern Wisconsin and northeastern Illinois.

The Final EIS was prepared to satisfy the requirements of the National Environmental Policy Act (NEPA). The FERC staff concludes that the proposed Project, with the appropriate mitigation measures as recommended, would have limited adverse environmental impact.

The U.S. Army Corps of Engineers (COE) and the Bureau of Indian Affairs (BIA) are federal cooperating agencies, and the Wisconsin Department of Natural Resources (WDNR) is the state cooperating agency for the development of this EIS. A federal cooperating agency has jurisdiction by law or special expertise with respect to any environmental impact involved with the proposal and is involved in the NEPA analysis.

The purpose of the G-II Project is to provide facilities necessary to provide about 537,200 decatherms per day of additional natural gas capacity to Guardian's existing pipeline system. The proposed additional capacity would facilitate the transport of natural gas to customers within the state of Wisconsin and provide those customers with the necessary infrastructure to support growth, choice, and competition within the natural gas marketplace.

The Final EIS addresses the potential environmental effects of construction and operation of the following facilities:

• 83.9 miles of 30-inch-diameter natural gas pipeline in Jefferson, Dodge, Fond du Lac, Calumet, Brown, and Outagamie Counties, Wisconsin;

• 31.3 miles of 20-inch-diameter natural gas pipeline in Brown and Outagamie Counties, Wisconsin;

• 1.4 miles of 16-inch-diameter natural gas branch line referred to as the Denmark Branch Line in Brown County, Wisconsin;

• Two 20-inch-diameter natural gas branch lines including the 1.8-mile Southwest Green Bay Branch Line in Brown County and a 0.8-mile West Green Bay Branch Line in Outagamie County, Wisconsin;

• Two new 39,000 horsepower (hp) electric-motor-driven compressor stations including the Sycamore Compressor Station located in the Sycamore Township in DeKalb County, Illinois and the Bluff Creek Compressor Station located in the Town of La Grange in Walworth County, Wisconsin;

• Modifications to the existing Ixonia Meter Station in Jefferson County, Wisconsin and the construction of seven new meter stations in the Counties of Dodge, Fond du Lac, Calumet, Brown, and Outagamie Counties, Wisconsin;

• New pig launcher/receiver facilities within Guardian's existing Ixonia Meter Station in Jefferson County, Wisconsin, within the proposed Fox Valley Meter Station in Calumet County, Wisconsin, and West Green Bay Meter Station in Outagamie County, Wisconsin; and

• Six new mainline valves (MLVs), four of which would occur along the 30-inch-diameter pipeline in the counties of Dodge, Fond du Lac, and Calumet, Wisconsin, and two which would occur along the 20-inch-diameter pipeline in Brown and Outagamie Counties, Wisconsin.

Guardian proposes to have Project construction initiated in the spring of 2008 and would be completed for a proposed in-service date of November 2008.

The Final EIS has been placed in the public files of the FERC and is available for public inspection at: Federal Energy Regulatory Commission, Public Reference Room, 888 First Street, NE., Room 2A, Washington, DC 20426, (202) 502-8371.

A limited number of copies of the Final EIS are available from the Public Reference Room identified above. In addition, the Final EIS has been mailed to affected landowners; various federal, state, and local government agencies; elected officials; environmental and public interest groups; Native American tribes; local libraries and newspapers; intervenors; and other individuals that expressed an interest in the proposed Project.

Additional information about the proposed Project is available from the Commission's Office of External Affairs, at 1-866-208-FERC or on the FERC Internet Web site (http://www.ferc.gov). To access information via the FERC website click on the “eLibrary” link then click on “General Search” and enter the docket number (CP07-8) excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E7-21730 Filed 11-5-07; 8:45 am]

BILLING CODE 6717-01-P